DEPARTMENT OF ENERGY

Federal Energy Regulatory Commission

[Project No. 13992-000]

Northland Power Mississippi River LLC; Notice of Preliminary Permit Application Accepted for Filing and Soliciting Comments, Motions To Intervene, and Competing Applications

On January 3, 2011, Northland Power Mississippi River LLC filed an application, pursuant to section 4(f) of the Federal Power Act, proposing to study the feasibility of hydropower on the Mississippi River, near the town of St. Gabriel, in Iberville Parish, Louisiana. The sole purpose of a preliminary permit, if issued, is to grant the permit holder priority to file a license application during the permit term. A preliminary permit does not authorize the permit holder to perform any land-disturbing activities or otherwise enter upon lands or waters owned by others without the owners' express permission.

The proposed NPI 024 hydrokinetic project would consist of the following: (1) Up to 300 TREK generating units installed in a matrix on the bottom of the river; (2) the total capacity of the installation would be up to 75,000 kilowatts; (3) shielded underwater cables would convey each matrix power to a substation; and (4) a transmission line would interconnect with the power grid. The proposed project would have an average annual generation of 657 gigawatt-hours (GWh), which would be sold to a local utility.

Applicant Contact: Tim Richardson, 30 St. Clair Avenue West 17th Floor, Toronto, Ontario, Canada; phone (416) 820-9521.

FERC Contact: Michael Spencer, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13992-000) in the docket number field to access the document. For assistance, contact FERC Online Support.

Dated: August 18, 2011.
Kimberly D. Bose,
Secretary.

[FR Doc. 2011-21807 Filed 8-25-11; 8:45 am]

BILLING CODE 6717-01-P